DEPARTMENT OF ENERGY

Federal Energy Regulatory Commission

Notice of FERC Staff Attendance at a Hearing Before the Arkansas Public Service Commission

The Federal Energy Regulatory Commission hereby gives notice that members of its staff may attend the hearing noted below. Their attendance is part of the Commission's ongoing outreach efforts.

The Arkansas Public Service Commission will hold an evidentiary hearing involving Entergy Arkansas, Inc. (EAI) in Docket No. 10-011-U beginning at 8:30 a.m. on September 7, 2011. The hearing involves issues surrounding EAI's membership in the Entergy System Agreement, or any successor agreement and control of its transmission system.

The hearing will be held in Hearing Room 1, Arkansas Public Service Commission Building, 1000 Center Street, Little Rock, Arkansas.

The discussions may address matters at issue in the following proceedings:

Docket No. OA07-32 | Entergy Services, Inc.
Docket No. EL00-66 | Louisiana Public Service Commission v. Entergy Services, Inc.
Docket No. EL01-88 | Louisiana Public Service Commission v. Entergy Services, Inc.
Docket No. EL07-52 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-50 | Louisiana Public Service Commission v. Entergy Services, Inc.
Docket No. EL09-61 | Louisiana Public Service Commission v. Entergy Services, Inc.
Docket No. EL10-55 | Louisiana Public Service Commission v. Entergy Services, Inc.
Docket No. EL10-65 | Louisiana Public Service Commission v. Entergy Services, Inc.
Docket No. EL11-34 | Midwest Independent System Transmission Operator, Inc.
Docket No. ER05-1065 | Entergy Services, Inc.
Docket No. ER07-682 | Entergy Services, Inc.
Docket No. ER07-956 | Entergy Services, Inc.
Docket No. ER08-1056 | Entergy Services, Inc.
Docket No. ER09-833 | Entergy Services, Inc.
Docket No. ER09-1224 | Entergy Services, Inc.
Docket No. ER10-794 | Entergy Services, Inc.
Docket No. ER10-1350 | Entergy Services, Inc.
Docket No. ER10-1676 | Entergy Services, Inc.
Docket No. ER10-2001 | Entergy Arkansas, Inc.
Docket No. ER10-2161 | Entergy Texas, Inc.
Docket No. ER10-2748 | Entergy Services, Inc.
Docket No. ER10-3357 | Entergy Arkansas, Inc.
Docket No. ER11-2131 | Entergy Arkansas, Inc.
Docket No. ER11-2132 | Entergy Gulf States, Louisiana, LLC
Docket No. ER11-2133 | Entergy Gulf States, Louisiana, LLC
Docket No. ER11-2134 | Entergy Mississippi, Inc.
Docket No. ER11-2135 | Entergy New Orleans, Inc.
Docket No. ER11-2136 | Entergy Texas, Inc.
Docket No. ER11-2161 | Entergy Texas, Inc.
Docket No. ER11-3156 | Entergy Arkansas, Inc.
Docket No. ER11-3157 | Entergy Arkansas, Inc.
Docket No. ER11-3274 | Entergy Arkansas, Inc.
Docket No. ER11-3728 | Midwest Independent Transmission System Operator, Inc.
Docket No. ER11-3657 | Entergy Arkansas, Inc.
Docket No. ER11-3658 | Entergy Arkansas, Inc.

This hearing is open to the public.

For more information, contact Patrick Clarey, Office of Energy Market Regulation, Federal Energy Regulatory Commission at (317) 249-5937 or patrick.clarey@ferc.gov.

Dated: August 29, 2011.
Kimberly D. Bose,
Secretary.

[FR Doc. 2011-22514 Filed 9-1-11; 8:45 am]

BILLING CODE 6717-01-P